OFFICE OF PERSONNEL MANAGEMENT

Excepted Service

AGENCY: Office of Personnel Management.

ACTION: Notice.

SUMMARY: This gives notice of positions placed or revoked under Schedule C in the excepted service, as required by Civil Service Rule VI, Exceptions from the Competitive Service.

FOR FURTHER INFORMATION CONTACT: Pam Shivery, Director, Washington Service Center, Employment Service (202) 606-1015.

SUPPLEMENTARY INFORMATION: Individual authorities established under Schedule C between May 1, 2002, and May 31, 2002, appear in the listing below. Future notices will be published on the fourth Tuesday of each month, or as soon as possible thereafter. A consolidated listing of all authorities as of June 30 will also be published.

Schedule C

The following Schedule C authorities were established during May 2002:

Department of Agriculture

Confidential Assistant to the Administrator, Farm Service Agency and Commodity Credit Corporation. Effective May 8, 2002.

Special Assistant to the Administrator, Foreign Agricultural Service. Effective May 15, 2002.

Special Assistant to the Administrator, Rural Business-Cooperative Service. Effective May 17, 2002.

Special Assistant to the Administrator, Rural Business-Cooperative Service. Effective May 23, 2002.

Special Assistant to the Administrator, Risk Management Agency. Effective May 23, 2002.

Department of Commerce

Chief of Protocol to the Chief of Staff. Effective May 28, 2002.

Director, Congressional and Public Affairs to the Under Secretary for Export Administration, Bureau of Industry and Security. Effective May 29, 2002.

Deputy Press Secretary to the Assistant to the Secretary and Director of Policy and Strategic Planning. Effective May 30, 2002.

Special Assistant to the Assistant Secretary and Director General, United States and Foreign Commercial Service. Effective May 31, 2002.

Department of Defense

Defense Fellow to the Special Assistant to the Secretary of Defense for White House Liaison. Effective May 6, 2002.

Special Policy Advisor to the Under Secretary of Defense (Policy). Effective May 15, 2002.

Staff Specialist to the Under Secretary of Defense, Acquisition, Technology and Logistics. Effective May 16, 2002.

Coordinator of Reserve Integration to the Principal Deputy Assistant Secretary of Defense (Reserve Affairs). Effective May 17, 2002.

Staff Assistant to the Deputy Assistant Secretary of Defense (near East/South Asia). Effective May 17, 2002.

Defense Fellow to the Special Assistant to the Secretary of Defense (White House Liaison). Effective May 21, 2002.

Department of Education

Special Assistant to the Chief of Staff. Effective May 9, 2002.

Deputy Chief of Staff for Operations to the Chief of Staff. Effective May 9, 2002.

Deputy Assistant Secretary for Regional Services to the Assistant Secretary, Office of Intergovernmental and Interagency Affairs. Effective May 16, 2002.

Confidential Assistant to the Chief of Staff. Effective May 20, 2002.

Secretary's Regional Representative, Region IV, Atlanta, Georgia to the Deputy Assistant Secretary for Regional Services. Effective May 20, 2002.

Confidential Assistant to the Director, White House Initiative on Hispanic Education. Effective May 21, 2002.

Confidential Assistant to the Director, Faith-Based and Community Initiatives Center. Effective May 22, 2002.

Special Assistant to the Director, White House Initiatives on Hispanic Education. Effective May 22, 2002.

Director, White House Initiative on Hispanic Education to the Secretary of Education. Effective May 24, 2002.

Confidential Assistant to the Director, White House Initiative on Tribal Colleges and Universities. Effective May 24, 2002.

Special Assistant to the Director, White House Initiatives on Tribal Colleges and Universities. Effective May 24, 2002.

Special Assistant to the Chief of Staff. Effective May 24, 2002.

Confidential Assistant to the Director, Faith Based and Community Initiatives Center. Effective May 24, 2002.

Confidential Assistant to the Director, Faith-Based and Community Initiatives Center. Effective May 24, 2002.

Special Assistant to the Director, White House Initiatives on Hispanic Education. Effective May 24, 2002.

Confidential Assistant to the Director, White House Initiative on Hispanic Education. Effective May 24, 2002.

Confidential Assistant to the Director, White House Initiative on Hispanic Education. Effective May 24, 2002.

Confidential Assistant to the Chief of Staff. Effective May 24, 2002.

Executive Assistant to the Assistant Secretary for Postsecondary Education. Effective May 28, 2002.

Department of Energy

Senior Policy Advisor to the Chief Financial Officer/Director, Office of Management Budget and Evaluation. Effective May 1, 2002.

Deputy Assistant Secretary for National Security to the Assistant Secretary for Congressional and Intergovernmental Affairs. Effective May 1, 2002.

Deputy Assistant Secretary for Energy Policy to the Assistant Secretary for Congressional and Intergovernmental Affairs. Effective May 1, 2002.

Deputy Director of Advance for Operations to the Director, Office of Scheduling and Advance. Effective May 1, 2002.

Congressional Liaison Officer to the Deputy Assistant Secretary for Environment and Science. Effective May 6, 2002.

Intergovernmental Liaison Officer to the Deputy Assistant Secretary for Intergovernmental and External Affairs. Effective May 16, 2002.

Senior Advisor, Congressional and Intergovernmental Affairs to the Director, Office of Science. Effective May 17, 2002.

Senior Advisor to the Assistant Secretary for Environmental Management. Effective May 21, 2002.

Special Assistant to the Deputy Assistant Secretary for Policy, Planning and Budget. Effective May 23, 2002.

Associate Deputy Assistant Secretary to the Deputy Assistant Secretary for Energy Policy. Effective May 24, 2002.

Senior Policy Advisor to the Assistant Secretary for Congressional and Intergovernmental Affairs. Effective May 31, 2002.

Department of Health and Human Services

Executive Director, President's Commission of HIV/AIDS to the Assistant Secretary for Health. Effective May 22, 2002.

Department of Housing and Urban Development

Staff Assistant to the Assistant Secretary for Public and Indian Housing. Effective May 6, 2002.

Special Assistant to the Assistant Secretary for Congressional and Intergovernmental Relations. Effective May 8, 2002.

Staff Assistant to the Assistant Secretary for Community Planning and Development. Effective May 8, 2002.

Senior Counsel to the Deputy to the Chief of Staff for Policy and Programs. Effective May 9, 2002.

Special Assistant to the Assistant Secretary for Public Affairs. Effective May 10, 2002.

Special Projects Officer to the Regional Administrator, New York, New York. Effective May 10, 2002.

Administrator of The Manufactured Housing Programs to the Assistant Secretary for Housing. Effective May 20, 2002.

Regional Director to the Assistant Deputy Secretary for Field Policy and Management. Effective May 22, 2002.

Department of the Interior

Special Assistant for Communications to the Assistant Secretary, Indian Affairs. Effective May 17, 2002.

Department of Justice

Research Assistant to the Director, Office of Public Affairs. Effective May 3, 2002.

Deputy Director to the Director, Office of Intergovernmental Affairs. Effective May 6, 2002.

Secretary (OA) to the United States Attorney, Eastern District of Michigan. Effective May 7, 2002.

Secretary (OA) to the United States Attorney, District of Wichita, Kansas. Effective May 30, 2002.

Special Assistant to the Deputy Administrator, Drug Enforcement Administration. Effective May 30, 2002.

Department of Labor

Staff Assistant to the Chief of Staff. Effective May 6, 2002.

Research Assistant to the Assistant Secretary, Office of Congressional and Intergovernmental Relations. Effective May 8, 2002.

Staff Assistant to the Director, 21st Century Workforce. Effective May 16, 2002.

Staff Assistant to the Director, Women's Bureau. Effective May 20, 2002.

Special Assistant to the Assistant Secretary for Policy. Effective May 20, 2002.

Special Assistant to the Deputy Assistant Secretary for Disability Employment Policy. Effective May 20, 2002.

Senior Legislative Officer to the Assistant Secretary for Congressional and Intergovernmental Affairs. Effective May 23, 2002.

Special Assistant to the Deputy Assistant Secretary for Disability Employment Policy. Effective May 24, 2002.

Associate Deputy Secretary to the Deputy Secretary of Labor. Effective May 24, 2002.

Special Assistant to the Assistant Secretary for Public Affairs. Effective May 29, 2002.

Secretary's Representative, Chicago, Illinois to the Assistant Secretary for Congressional and Intergovernmental Affairs. Effective May 29, 2002.

Department of State

Foreign Affairs Officer to the Coordinator for Counter-Terrorism. Effective May 7, 2002.

Program Officer to the Deputy Assistant Secretary, Bureau of Public Affairs. Effective May 7, 2002.

Special Assistant to the Assistant Secretary for Resource Management. Effective May 16, 2002.

Foreign Affairs Officer to the Assistant Secretary for Public Affairs. Effective May 17, 2002.

Special Assistant to the Deputy Assistant Secretary, China. Effective May 17, 2002.

Senior Technical Advisor to the Coordinator, Office of International and Information Programs. Effective May 23, 2002.

Public Affairs Specialist to the Assistant Secretary for Public Affairs. Effective May 28, 2002.

Staff Assistant to the Deputy Secretary of State. Effective May 31, 2002.

Department of Transportation

Special Assistant to the Administrator, Federal Highway Administration. Effective May 1, 2002.

Assistant for Policy to the Secretary of Transportation. Effective May 1, 2002.

Special Assistant to the Assistant to the Secretary of Director of Public Affairs. Effective May 1, 2002.

Speechwriter to the Assistant Director for Speechwriting. Effective May 1, 2002.

Speechwriter to the Assistant Director of Speechwriting. Effective May 1, 2002.

Special Assistant to the Chief Counsel. Effective May 2, 2002.

Special Assistant to the Assistant Secretary for Aviation and International Affairs. Effective May 20, 2002.

Special Assistant to the Administrator, National Highway Traffic Safety Administration. Effective May 21, 2002.

White House Liaison to the Chief of Staff. Effective May 24, 2002.

Director, Office of Congressional and Public Affairs to the Maritime Administrator. Effective May 29, 2002.

Environmental Protection Agency

Associate Assistant Administrator to the Assistant Administrator for Solid Waste and Emergency Response. Effective May 2, 2002.

Senior Counsel to the Associate Administrator for Congressional and Intergovernmental Relations. Effective May 14, 2002.

Special Assistant to the General Counsel. Effective May 15, 2002.

Federal Emergency Management Agency

Special Assistant to the Director for Administration/White House Liaison. Effective May 6, 2002.

Federal Housing Finance Board

Special Assistant to the Chairman. Effective May 15, 2002.

General Services Administration

Senior Advisor to the Regional Administrator, Great Lakes Region. Effective May 10, 2002.

Chief Technology Officer to the Associate Administrator for Communications. Effective May 30, 2002.

Office of Management and Budget

Public Affairs Specialist to the Associate Director for Communications. Effective May 10, 2002.

Deputy General Counsel to the General Counsel. Effective May 30, 2002.

Office of Personnel Management

Coordinator, Public Liaison and Constituent Services to the Director, Office of Communications. Effective May 2, 2002.

Deputy Director, Office of Communications to the Director, Office of Communications. Effective May 17, 2002.

Confidential Assistant/Scheduler to the Chief of Staff. Effective May 23, 2002.

Office of Science and Technology Policy

Executive Director, President's Council of Advisors on Science and Technology and Counsel to the Director, Office of Science and Technology Policy. Effective May 9, 2002.

Securities and Exchange Commission

Director of Legislative Affairs to the Director of Communications. Effective May 24, 2002.

Small Business Administration

Staff Assistant to the Administrator, Small Business Administration. Effective May 8, 2002.

Regional Administrator to the Administrator, Region IV, Atlanta, Georgia. Effective May 31, 2002.

Social Security Administration

Special Assistant to the Deputy Commissioner for Legislation and Congressional Affairs. Effective May 15, 2002.

Authority: 5 U.S.C. 3301 and 3302; E.O. 10577, 3 CFR 1954-1958 Comp., p. 218

Office of Personnel Management.
Kay Coles James,
Director.

[FR Doc. 02-16468 Filed 6-28-02; 8:45 am]

BILLING CODE 6325-38-M